DEPARTMENT OF STATE

[Delegation of Authority No. 514-1]

Delegation of Authorities; Certain Congressional Reporting Functions

By virtue of the authority vested in the Secretary of State by the laws of the United States, including section 1(a)(4) of the State Department Basic Authorities Act (22 U.S.C. 2651a(a)(4)), I hereby delegate to Assistant Secretary Alaina Teplitz, to the extent authorized by law and subject to the limitation below, the authority of the Secretary of State to approve submission of one-time or recurring reports to the Congress.

This delegation shall not be construed to authorize waivers, certifications, determinations, findings, or other such statutorily required substantive actions that may be called for in connection with the submission of a report. Assistant Secretary Teplitz shall be responsible for referring to the Secretary, the Deputy Secretary, or the Deputy Secretary for Management and Resources any matter on which action should appropriately be taken by such official.

The Secretary, Deputy Secretary, Deputy Secretary for Management and Resources, and the Under Secretary for Management may exercise any function or authority delegated herein. This delegation of authority does not modify any other delegation of authority currently in effect.

This delegation shall expire upon the entry upon duty of a confirmed Deputy Secretary of State for Management and Resources, unless sooner revoked, and shall be published in the Federal Register.

Dated: February 3, 2023.
Antony J. Blinken,
Secretary of State.

[FR Doc. 2023-02829 Filed 2-9-23; 8:45 am]

BILLING CODE 4710-10-P